DEPARTMENT OF TRANSPORTATION

Office of the Secretary

Notice of Applications for Certificates of Public Convenience and Necessity and Foreign Air Carrier Permits Filed Under Subpart B (Formerly Subpart Q) During the Week Ending September 30, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22228, OST-2005-22577.

Date Filed: September 26, 2005.

Due Date for Answers, Conforming Applications, or Motion to Modify Scope:October 17, 2005.

Description: Application of PSA Airlines, Inc. (“PSA”), in response to the Department's Notice served August 26, 2005, PSA requests parallel certificate authority for its existing exemptions to provide scheduled foreign air transportation of persons, property and mail, as well as for such authority for Open Skies markets in the Caribbean region for which it has not previously sought or obtained any authority. PSA further seeks integration authority to combine this authority with their other authorities.

Docket Number: OST-2005-22228, OST-2005-22576.

Date Filed: September 26, 2005.

Due Date for Answers, Conforming Applications, or Motion to Modify Scope:October 17, 2005.

Description: Application of JetBlue Airways Corporation (“JetBlue”), requesting a certificate of public convenience and necessity to engage in foreign scheduled air transportation of persons, property and mail to Cancun, Mexico from New York, NY, including integration authority with its other and future certificate authority held by JetBlue as provided in the August 23 Notice issued in OST-2005-22228.

Docket Number: OST-2005-22228, OST-2005-22578.

Date Filed: September 26, 2005.

Due Date for Answers, Conforming Applications, or Motion to Modify Scope:October 17, 2005.

Description: Application of US Airways, Inc. (“US Airways”) in response to the Department's Notice served August 26, 2005, US Airways requests parallel certificate authority for its pending and existing exemptions to provide scheduled foreign air transportation of persons, property and mail, as well as authority for Open Skies markets for which US Airways has not previously sought or obtained any authority. US Airways further seeks integration authority to combine this authority with their other authorities.

Docket Number: OST-2004-18481.

Date Filed: September 27, 2005.

Due Date for Answers, Conforming Applications, or Motion to Modify Scope:October 18, 2005.

Description: Amendment no. 1 of Domodedovo Airlines amending its application for a foreign air carrier permit to operate scheduled passenger and combination scheduled flights between Moscow-Domodedovo Airport, Russia (DME), and Miami, FL (MIA), commencing on or about April 1, 2006.

Docket Number: OST-1999-6323.

Date Filed: September 29, 2005.

Due Date for Answers, Conforming Applications, or Motion to Modify Scope: October 20, 2005.

Description: Application of United Parcel Service Co., requesting renewal and amendment of its certificate of public convenience and necessity for Route 797, authorizing UPS to provide foreign air transportation of property and mail with full traffic rights between any point or points in the United States, via any intermediate points to any point or points in China, and beyond to any points outside China, with full traffic rights between all points on the route. UPS further requests such further and different relief as the Department may deem just and necessary.

Docket Number: OST-2001-9027.

Date Filed: September 30, 2005.

Due Date for Answers, Conforming Applications, or Motion to Modify Scope:October 17, 2005.

Description: Application of American Airlines, Inc., requesting renewal of the following authority in its certificate of public convenience and necessity for Route 147 authorizing scheduled foreign air transportation of persons, property, and mail.

Docket Number: OST-2001-9027.

Date Filed: September 26, 2005.

Due Date for Answers, Conforming Applications, or Motion to Modify Scope:October 21, 2005.

Description: Application of American Airlines, Inc., requesting renewal of its certificate of public convenience and necessity for Route 612 authorizing scheduled foreign air transportation of persons, property, and mail between New York and Moscow.

Docket Number: OST-2005-22621.

Date Filed: September 30, 2005.

Due Date for Answers, Conforming Applications, or Motion to Modify Scope:October 21, 2005.

Description: Application of ASTAR Air Cargo, Inc., requesting permanent certificate authority to replace existing exemption authority over two US-Mexico routes. Specifically, ASTAR seeks an amendment to its certificate of public convenience and necessity for Route 725 to provide scheduled foreign air transportation of property and mail between El Paso, TX and Saltillo, Mexico and between San Antonio, TX and Saltillo, Mexico which corresponds to existing exemption authority granted on September 12, 2005.

Renee V. Wright,
Program Manager, Docket Operations, Federal Register Liaison.

[FR Doc. 05-21452 Filed 10-26-05; 8:45 am]

BILLING CODE 4910-62-P